DEPARTMENT OF TRANSPORTATION

Federal Aviation Administration

Notice of Intent To Rule on Request To Release Airport Property at Portland—Hillsboro Airport, Hillsboro, OR

AGENCY: Federal Aviation Administration (FAA), DOT.

ACTION: Notice of Proposal to Release Airport Property.

SUMMARY: The FAA proposes to rule and invites public comment on the release of land at Portland—Hillsboro Airport under the provisions of Section 125 of the Wendell H. Ford Aviation Investment Reform Act for the 21st Century (AIR 21), now 49 U.S.C. 47107(h)(2).

The FAA is considering a proposal to change a portion of the airport from aeronautical use to nonaeronautical use and to authorize the sale and/or conversion of the airport property. The proposal consists of two parcels of land containing a total of approximately 3.21 acres located in the southeast portion of the airport southeast of Cornell Rd. The FAA may approve the request, in whole or in part, no later than August 6, 2012.

DATES: Comments must be received on or before August 6, 2012.

ADDRESSES: Comments on this application may be mailed or delivered to the FAA at the following address: Dave Roberts, Federal Aviation Administration, Northwest Mountain Region, Airports Division, Seattle Airports District Office, 1601 Lind Avenue SW., Suite 250, Renton, Washington 98057-3356.

In addition, one copy of any comments submitted to the FAA must be mailed or delivered to Port of Portland at the following address: Steve Nagy, Hillsboro Airport Manager, Port of Portland, 7200 NE. Airport Way, Portland, OR 97218.

FOR FURTHER INFORMATION CONTACT: Dave Roberts, Federal Aviation Administration, Northwest Mountain Region, Seattle Airports District Office, 1601 Lind Avenue SW., Suite 250, Renton, Washington 98057-3356.

The request to release property may be reviewed, by appointment, in person at this same location.

SUPPLEMENTARY INFORMATION: The FAA invites public comment on the request to release property at the Portland—Hillsboro Airport under the provisions of the AIR 21 (49 U.S.C. 47107(h)(2)).

The following is a brief overview of the request:

The Port of Portland is proposing the release of approximately 3.21 acres of airport property acquired under federal grants: FAAP 9-35-063-D903, FAAP 9-35-063-E802, and ADAP 5-41-0025-04.

The land will be transferred to the City of Hillsboro for right-of-way use in constructing an extension of NE Veterans Drive and associated storm sewers. The Port of Portland proposes swapping the land with the City of Hillsboro and the County of Washington for approximately 4.1 acres of vacant right-of-way located on the airport in the runway 13 safety area and protection zone near NE Evergreen Road.

The property is described as follows:

(1) A tract of land located in the north one-half of Section 33 of Township 1 North, Range 2 West, Willamette Meridian, City of Hillsboro, Washington County, Oregon, and also being a portion of that property described in warranty deeds to the Port of Portland, recorded in Book 623, Page 367 and Book 824, Page 830 and Document Number 84044001 all recorded in the deed records of Washington County. Containing 136,106 square feet more or less.

(2) A tract of land located in the northeast one-quarter of Section 33 of Township 1 North, Range 2 West, Willamette Meridian, City of Hillsboro, Washington County, Oregon and also being a portion of that property described in warranty deed to the Port of Portland, as recorded in Book 623, Page 367 in the deed records of Washington County. Containing 4,000 square feet more or less.

Any person may inspect, by appointment, the request in person at the FAA office listed above under FOR FURTHER INFORMATION CONTACT.

In addition, any person may, upon appointment and request, inspect the application, notice and other documents germane to the application in person at the Portland—Hillsboro Airport or the Port of Portland offices at the Portland International Airport.

Issued in Renton, Washington, on June 19, 2012.
Carol Suomi,
Manager, Seattle Airports District Office.

[FR Doc. 2012-16437 Filed 7-3-12; 8:45 am]

BILLING CODE 4910-13-P